COMMODITY FUTURES TRADING COMMISSION

Submission for OMB Review; Comment Request; Correction

In notice document 2011-31650 appearing on page 76953 in the issue of December 9, 2011, make the following correction:

On page 76953, in the second column, in the SUPPLEMENTARY INFORMATION section, the last sentence before Burden, should read “The Federal Register notice with a 60-day comment period soliciting comments on this collection of information was published on”, should read “September 30, 2011 (76 FR 60810)”.

On page 76953, in the second column, “Burden statement” should read, “Burden statement: The respondent burden for this collection is estimated to average 2.5 hours per response.

Respondents/Affected Entities: 15.

Estimated number of responses: 15.

Estimated total annual burden on respondents: 0.17 hours.

Frequency of collection: On occasion.

Issued in Washington, DC, on December 16, 2011, by the Commission.
Sauntia S. Warfield,
Assistant Secretary of the Commission.

[FR Doc. 2011-32724 Filed 12-21-11; 8:45 am]

BILLING CODE P